DEPARTMENT OF HEALTH AND HUMAN SERVICES

Centers for Disease Control and Prevention

[60Day-15-0932]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Data Collection for Evaluation of Education, Communication, and Training Activities—Revision—National Center for Emerging and Zoonotic Infectious Diseases (NCEZID), Centers for Disease Control and Prevention (CDC).

Background and Brief Description

The Centers for Disease Control and Prevention (CDC) Division of Global Migration and Quarantine (DGMQ) is requesting a revision of a currently approved generic clearance to conduct evaluation research. This will help CDC plan and implement health communication, education, and training activities to improve health and prevent the spread of disease. These activities include communicating with international travelers and other mobile populations, training healthcare providers, and educating public health departments and other federal partners.

The information collection for which the revision is sought is in accordance with DGMQ's mission to reduce morbidity and mortality among immigrants, refugees, travelers, expatriates, and other globally mobile populations, and to prevent the introduction, transmission, or spread of communicable diseases from foreign countries into the United States. This mission is supported by delegated legal authorities outlined in the Public Health Service (PHS) Act (42 U.S.C. 264) and in regulations that are codified in 42 Code of Federal Regulations (CFR) parts 70 and 71, and 34.

Since receiving initial approval for this generic, CDC has conducted three information collections. These information collections were in support of an Evaluation of Adapted Health Education Materials for LEP Spanish Speakers and Indigenous Migrants; Evaluation of the TravAlert Electronic Messaging System; and, a project entitled Scan This: Effectiveness of Quick Response Codes for Engaging International Panel Physicians. In order, these projects evaluated materials designed for specific audiences to determine if CDC's methods for communicating key public health messages were translated appropriately for low-English proficiency residents in the United States, were effective in reaching travelers in airports, and were useful in making CDC's immigration medical exam technical instructions more accessible.

Approval of this revision of the generic information collection will allow DGMQ continue to collect in an expedited manner information about the knowledge, attitudes, and behaviors of key audiences (such as refugees, immigrants, migrants, international travelers, travel industry partners, healthcare providers, non-profit agencies, customs brokers and forwarders, schools, state and local health departments) to help improve and inform these activities during both routine and emergency public health events. This generic OMB clearance will help DGMQ continue to refine these efforts in a timely manner, and will be especially valuable for communication activities that must occur quickly in response to public health emergencies.

DGMQ staff will use a variety of data collection methods for this proposed project: Interviews, focus groups, surveys, and pre/post-tests. Depending on the research questions and audiences involved, data may be gathered in-person, by telephone, online, or using some combination of these formats. Data may be collected in quantitative and/or qualitative forms. Numerous audience variables will be assessed under the auspices of this generic OMB clearance. These include, but are not limited to, knowledge, attitudes, beliefs, behavioral intentions, practices, behaviors, skills, self-efficacy, and information needs and sources. Insights gained from evaluation research will assist in the development, refinement, implementation, and demonstration of outcomes and impact of communication, education, and training activities.

DGMQ estimates that 17,500 respondents and 7,982 hours of burden will be involved in evaluation research activities each year. The information being collected will not impose a cost burden on the respondents beyond that associated with their time to provide the required data.

Estimated Annualized Burden Hours
Type of respondents | Form name | Number of respondents | Number of responses per respondent | Average burden per response (in hours) | Total burden (in hours)
General Public | Focus Groups Screening form | 1,050 | 1 | 10/60 | 175
Healthcare Professionals | Focus Groups Screening form | 450 | 1 | 10/60 | 75
General Public | Focus Groups | 525 | 1 | 90/60 | 788
Healthcare Professionals | Focus Groups | 225 | 1 | 90/60 | 338
General Public | Interview Screening Form | 700 | 1 | 10/60 | 117
Healthcare Professionals | Interview Screening Form | 300 | 1 | 10/60 | 50
General Public | Interviews | 350 | 1 | 1 | 350
Healthcare Professionals Interviews | Interviews | 150 | 1 | 1 | 150
General Public | Survey Screening Forms | 5,250 | 1 | 10/60 | 875
Healthcare Professionals | Survey Screening Forms | 2,250 | 1 | 10/60 | 375
General Public | Surveys | 2,625 | 1 | 45/60 | 1,969
Healthcare Professionals | Surveys | 1,125 | 1 | 45/60 | 844
General Public | Pre/Post Tests | 1,750 | 1 | 45/60 | 1,313
Healthcare Professionals | Pre/Post Tests | 750 | 1 | 45/60 | 563
TOTAL |  | 17,500 |  |  | 7,982

Leroy A. Richardson,
Chief, Information Collection Review Office, Office of Scientific Integrity, Office of the Associate Director for Science, Office of the Director, Centers for Disease Control and Prevention.

[FR Doc. 2014-29503 Filed 12-16-14; 8:45 am]

BILLING CODE 4163-18-P